DEPARTMENT OF HOMELAND SECURITY

Coast Guard

[USCG-2007-28745]

Merchant Marine Personnel Advisory Committee

AGENCY: Coast Guard, DHS.

ACTION: Notice of meetings.

SUMMARY: The Merchant Marine Personnel Advisory Committee (MERPAC) will meet in Easton, MD, to discuss various issues relating to the training and fitness of merchant marine personnel. MERPAC advises the Secretary of Homeland Security on matters relating to the training, qualifications, licensing, and certification of seamen serving in the U. S. merchant marine. Both meetings will be open to the public.

DATES: MERPAC will meet on Tuesday, September 11, 2007, from 8:30 a.m. to 4:30 p.m., and on Wednesday, September 12, 2007, from 8:30 to 3:30 p.m. These meetings may close early if all business is finished. Written material and requests to make oral presentations should reach the Coast Guard on or before August 28, 2007. Requests to have a copy of your material distributed to each member of the committee or subcommittee should reach the Coast Guard on or before August 28, 2007.

ADDRESSES: MERPAC will meet in the Classroom Building Auditorium of the Calhoon MEBA Engineering School, 27050 St. Michaels Road, Easton, MD 21601. Further directions regarding the location of the Calhoon MEBA Engineering School may be obtained by going to the following link: http://www.mebaschool.org/directions?SESS=cfb48385dacc691717e1df9c9655f593&time=1181575289. Send written material and requests to make oral presentations to Mark Gould, Commandant (CG-3PSO-1), U.S. Coast Guard Headquarters, 2100 Second Street SW., Washington, DC 20593-0001. This notice is available on the Internet at http://dms.dot.gov.

FOR FURTHER INFORMATION CONTACT: Mark Gould, Assistant Executive Director, telephone 202-372-1409, fax 202-372-1926.

SUPPLEMENTARY INFORMATION: Notice of these meetings is given under the Federal Advisory Committee Act, 5 U.S.C. App. (Pub. L. 92-463)].

Agendas of Meetings

Agenda of Meeting on September 11, 2007.

The full committee will meet to discuss the objectives for the meeting. The working groups addressing the following task statements may meet to deliberate: Task Statement 30, concerning “Utilizing Military Sea Service for STCW Certifications”; Task Statement 55, concerning “Recommendations to Develop a Voluntary Training Program for Deck and Engine Department Entry Level Mariners on Domestic and Seagoing Vessels”; Task Statement 58, concerning “Stakeholder Communications During MLD Program Restructuring and Centralization”; Task Statement 61, concerning “Merchant Mariner Medical Waiver Evaluation Guidelines”; and Task Statement 64, concerning “Recommendations on Areas in the STCW Convention and the STCW Code Identified for Comprehensive Review.” In addition, new working groups may be formed to address issues proposed by the Coast Guard, MERPAC members, or the public. All task statements may be viewed at the MERPAC Web site at http://www.uscg.mil/hq/g-m/advisory/merpac/merpac.htm.

At the end of the day, the working groups will make a report to the full committee on what has been accomplished in their meetings. No action will be taken on these reports on this date.

Agenda of Meeting on September 12, 2007:

The agenda comprises the following:

(1) Introduction.

(2) Working Groups' Reports:

(a) Task Statement 30, concerning “Utilizing Military Sea Service for STCW Certifications”;

(b) Task Statement 55, concerning “Recommendations to Develop a Voluntary Training Program for Deck and Engine Department Entry Level Mariners on Domestic and Seagoing Vessels”;

(c) Task Statement 58, concerning “Stakeholder Communications During MLD Program Restructuring and Centralization”;

(d) Task Statement 61, concerning “Merchant Mariner Medical Waiver Evaluation Guidelines”;

(e) Task Statement 64, concerning “Recommendations on Areas in the STCW Convention and the STCW Code Identified for Comprehensive Review; and

(f) Other task statements which may have been adopted for discussion and action.

(3) Other items which may be discussed:

(a) Standing Committee—Prevention Through People.

(b) Briefings concerning on-going projects of interest to MERPAC.

(c) Other items brought up for discussion by the committee or the public.

Procedural

Both meetings are open to the public. Please note that the meetings may close early if all business is finished. At the Chair's discretion, members of the public may make oral presentations during the meetings. If you would like to make an oral presentation at a meeting, please notify the Assistant Executive Director no later than August 28, 2007. Written material for distribution at a meeting should reach the Coast Guard no later than August 28, 2007. If you would like a copy of your material distributed to each member of the committee or subcommittee in advance of a meeting, please submit 25 copies to the Assistant Executive Director no later than August 28, 2007.

Information on Services for Individuals with Disabilities

For information on facilities or services for individuals with disabilities or to request special assistance at the meetings, contact the Assistant Executive Director as soon as possible.

Dated: July 17 2007.
H.L. Hime,
Acting Director of National and International Standards, Assistant Commandant for Prevention-Operations.

[FR Doc. E7-14297 Filed 7-23-07; 8:45 am]

BILLING CODE 4910-15-P